DEPARTMENT OF ENERGY

Federal Energy Regulatory Commission

[Project No. 2216-079]

Notice of Application for Non-Capacity Amendment of License and Soliciting Comments, Motions To Intervene, and Protests: Power Authority of the State of New York

Take notice that the following application has been filed with the Commission and is available for public inspection:

a. Application Type: Non-Capacity Amendment of License.

b. Project No.: 2216-079.

c. Date Filed: December 15, 2011 and supplemented on February 15, 2012.

d. Applicant: Power Authority of the State of New York.

e. Name of Project: Niagara Power Project.

f. Location: On the Niagara River, in the City of Niagara Falls and the Towns of Niagara and Lewiston in Niagara County, New York.

g. Filed Pursuant to: Federal Power Act, 16 U.S.C. 791a-825r.

h. Applicant Contact: Mr. John J. Suloway, Vice President, Licensing, Acquisition and Project Development, New York Power Authority, 123 Main Street, 9th Floor, White Plains, New York 10601, (914) 287-3971.

i. FERC Contact: Jake Tung, (202) 502-8757, email at hong.tung@ferc.gov.

j. Deadline for filing comments, motions to intervene, and protest: April 4, 2012.

Comments, motions to intervene, and protests may be filed electronically via the Internet. See 18 CFR 385.2001(a)(1)(iii) and the instructions on the Commission's Web site under the “eFiling” link. If unable to be filed electronically, documents may be paper-filed. To paper-file, an original and seven copies should be mailed to: Kimberly D. Bose, Secretary, Federal Energy Regulatory Commission, 888 First Street NE., Washington, DC 20426. For more information on how to submit these types of filings, please go to the Commission's Web site located at http://www.ferc.gov/filing-comments.asp.

k. Description of Request: The applicant proposes to rehabilitate the twelve 50-year-old, 20 MW pump-turbine/motor generator units at the Lewiston Pumped Storage Development by: (1) Installing new high efficiency turbine runners, replacing runner seals, replacing or modifying head covers; (2) conducting non-destructive examination and possible rehabilitation and modification of shafts; (3) overhauling the operating mechanism, replacing wicket gates, and inspection and rehabilitation of stay rings; and (4) planning major maintenance for the motor/generators, replacing main transformers and exciters, circuit breakers, unit control boards and governors. The applicant proposed timelines for rehabilitating the 12 turbine units will start in December 2012 for the first unit and complete the last (12th) unit in November 2020. The proposed rehabilitation would increase the turbine hydraulic capacity by approximately 300 cfs per unit and the generating capacity by approximately 2 MW per unit.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—All filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Dated: March 21, 2012.
Kimberly D. Bose,
Secretary.

[FR Doc. 2012-7381 Filed 3-27-12; 8:45 am]

BILLING CODE 6717-01-P